DEPARTMENT OF AGRICULTURE

Forest Service

Sierra National Forest; California; Exchequer Restoration Project

AGENCY: Forest Service, USDA.

ACTION: Notice of intent to prepare an environmental impact statement.

SUMMARY: The United States Forest Service (USFS), Sierra National Forest, proposes to approve the Notice of Intent (NOI) and Proposed Action (PA) with appropriate mitigation measures to reduce resource impacts. This NOI is to reduce hazardous fuels and restore ecological components within the Exchequer Management Unit Group (MUG), McKinley Grove (MUG), and a managed-fire area.

DATES: Comments concerning the scope of the analysis must be received by April 13, 2015. The draft environmental impact statement is expected October 2015 and the final environmental impact statement is expected February 2016.

ADDRESSES: Send written comments to 29688 Auberry Road, Prather, CA 93651. Comments may also be sent via email to comments-pacificsouthwest-sierra@fs.fed.us, or via facsimile to 559-855-5375.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Jody Nickerson, 559-297-0706 extension 4943 or jnickerson@fs.fed.us.

Individuals who use telecommunication devices for the deaf (TDD) may call the Federal Information Relay Service (FIRS) at 1-800-877-8339 between 8 a.m. and 8 p.m., Eastern Time, Monday through Friday.

SUPPLEMENTARY INFORMATION: The project is located in Fresno County, CA in T. 9 S., R. 25 E. Sections 32-34; T. 9 S., R. 26 E. Sections 31 and 34-36; T. 10 S., R. 25 E. Sections 3-4; 9-10; 15-16, 22, 27-29 and 34; T. 10 S. R. 26 E. Sections 1-3; 10-16; 21-24; 25-29; 34-36; T. 10 S., R. 27 E. Sections 5-8; 18-20; T. 11 S., R. 26 E. Section 1; and T. 11 S., R. 27 E. Section 6, MDBM. The project proposes to reduce hazardous fuels and restore ecological components, with a focus on the California spotted owl within the project area based on a landscape assessment conducted by the Landscape Planning Work Group (LPWG) of the Dinkey Collaborative. The landscape assessment was completed for the Dinkey Landscape Restoration Project (DLRP) area in which the Exchequer MUG was rated as the highest priority area to treat at this time.

Purpose and Need for Action

The purpose of the project is to improve and maintain key California spotted owl habitat structures, reduce fire risk to communities and fire fighters, restore forest health to a more natural condition characteristic of frequent-fire forests and the Sierra National Forest Land and Resource Management Plan (LRMP), and to meet the interests expressed by the Dinkey Collaborative. In the project area, there is a need to protect from wildfire and enhance nesting and foraging structures for California spotted owl and fisher; to restore a vigorous, diverse forest ecosystem resilient to the effects of wildfire, insect and disease, air pollution, and climate change; to protect adjacent landowners and private property from the effects of wildfire; to incorporate potential ecological benefits into the fire management decision making process; to improve watershed resilience and function and improve aquatic habitat for sensitive species; to restore and enhance meadow habitat and aspen communities; and to reduce the spread of noxious weeds and to protect sensitive botanical species.

Proposed Action

The USFS, Sierra National Forest is proposing to apply restoration treatments to Exchequer MUG including vegetation treatments (mechanical commercial thinning, ladder fuels), plantation treatments (reforestation, site preparation, herbicide use), treatment of watershed improvement needs, meadow and aspen restoration, fuels reduction (strategic roads treatments, prescribed fire, mastication, dozer piling), and hazard tree removal. The project proposes to apply prescribed fire to the McKinley Grove MUG for beneficial ecological purposes. A project-specific land management plan is being proposed in the eastern portion of the project area to use managed wildfire outside of a designated wilderness boundary. Actions area designed to move current conditions of the project area closer to reference conditions. Design criteria would be incorporated into the project design and would incorporate all applicable LRMP (and amendments) Standards and Guidelines, Best Management Practices, and Conservation Measures and Terms and Conditions from appropriate Biological Opinions relating to the project.

Responsible Official

Sierra National Forest Supervisor, Dean A. Gould

Nature of Decision To Be Made

The decision to be made is whether or not to approve the proposed action or any additional alternatives analyzed for the Exchequer Project area.

Preliminary Issues

Preliminary issues include impacts to California spotted owl, Pacific fisher, Sierra Nevada yellow-legged frog, and Yosemite toad and their habitats and impacts from hazardous fuels and risk of uncharacteristic wildfire.

Scoping Process

This notice of intent initiates the scoping process, which guides the development of the environmental impact statement. Tribal consultation will be initiated simultaneously. Collaboration with the Dinkey Collaborative has been an ongoing process in the planning of the project.

It is important that reviewers provide their comments at such times and in such manner that they are useful to the agency's preparation of the environmental impact statement. Therefore, comments should be provided prior to the close of the comment period and should clearly articulate the reviewer's concerns and contentions.

Dated: March 5, 2015.
Steven Ostoja,
Acting Forest Supervisor.

[FR Doc. 2015-05740 Filed 3-12-15; 8:45 am]

BILLING CODE 3410-11-P